DEPARTMENT OF TRANSPORTATION

Federal Motor Carrier Safety Administration

49 CFR Parts 383, 384, and 385

[Docket No. FMCSA-2007-27659]

RIN 2126-AB02

Commercial Driver's License Testing and Commercial Learner's Permit Standards; Extension of Comment Period

AGENCY: Federal Motor Carrier Safety Administration (FMCSA), DOT.

ACTION: Proposed rule; extension of comment period.

SUMMARY: In response to several requests, the Federal Motor Carrier Safety Administration (FMCSA) extends until July 9, 2008, the comment period for the notice of proposed rulemaking (NPRM) that was published on April 9, 2008.

DATES: Please submit comments regarding the NPRM to the docket by July 9, 2008.

ADDRESSES: Comments must be identified by Docket ID Number FMCSA-2007-27659, and submitted by one of the following methods:

• Electronically: Through the Federal Docket Management System (FDMS), at http://www.regulations.gov; and follow the instructions for submitting comments.

• Mail/Courier: U.S. Department of Transportation, Docket Management Facility, West Building Ground Floor, Room W12-140, 1200 New Jersey Ave, SE., Washington, DC 20590, between 9 a.m. and 5 p.m., e.t., Monday through Friday, except Federal holidays.

• Fax: (202) 493-2251.

• Docket: For access to the docket to read comments received and background material, go to the Federal Docket Management System (FDMS) at http://www.regulations.gov, and search for docket ID Number FMCSA-2007-27659. Comments may also be inspected at the U.S. Department of Transportation, Docket Management Facility, West Building Ground Floor, Room W12-140, 1200 New Jersey Ave, SE., Washington, DC 20590, between 9 a.m. and 5 p.m., e.t., Monday through Friday, except Federal holidays.

• Privacy Act: Regardless of the method used for submitting comments, all comments or material will be posted without change to the FDMS, including personal information. Anyone can search the electronic form of all of our dockets in FDMS by the name of the individual submitting the document (or signing the comment, if submitted on behalf of an association, business, labor union, etc.). You may review DOT's complete Privacy Act Statement published in the Federal Register on April 11, 2000 (65 FR 19476) or you may visit http://DocketsInfo.dot.gov.

FOR FURTHER INFORMATION CONTACT: Mr. Robert Redmond, Office of Safety Programs, Commercial Driver's License Division, telephone (202) 366-5014 or e-mail robert.redmond@dot.gov. Office hours are from 8 a.m. to 4:30 p.m.

SUPPLEMENTARY INFORMATION: On April 9, 2008 (73 FR 19282), FMCSA published a notice of proposed rulemaking (NPRM) in the Federal Register concerning proposed requirements related to commercial driver's license testing and commercial learner's permit standards. We provided the public with a 60-day comment period that expires on June 9, 2008. Several commenters have submitted requests for an extension of 30 days beyond June 9, which are in the docket. Accordingly, FMCSA extends the comment period for an additional 30 days, which now expires on July 9, 2008.

Issued on: June 4, 2008.
John H. Hill,
Administrator.

[FR Doc. E8-12876 Filed 6-6-08; 8:45 am]

BILLING CODE 4910-EX-P